NUCLEAR REGULATORY COMMISSION

[NRC-2013-0212: NRC-2013-0211]

Environmental Issues Associated With New Reactors and Specific Environmental Guidance for Integral Pressurized Water Reactors Reviews

AGENCY: Nuclear Regulatory Commission.

ACTION: Draft interim staff guidance; re-opening of comment period.

SUMMARY: On September 13, 2013, the U.S. Nuclear Regulatory Commission (NRC) published a request for public comment on draft Interim Staff Guidance (ISG) ESP/COL-ISG 026, “Interim Staff Guidance on Environmental Issues Associated with New Reactors” and draft ISG ESP/COL-ISG-027, “Interim Staff Guidance on Specific Environmental Guidance for iPWR Reviews.” The purpose of this ISG is to clarify the NRC guidance and application of NUREG-1555, Environmental Standard Review Plan: “Standard Review Plans for Environmental Reviews for Nuclear Power Plants.” The public comment period was originally scheduled to close on October 15, 2013. The Nuclear Energy Institute (NEI) submitted a letter on September 17, 2013 (Agencywide Documents Access and Management System (ADAMS) Accession No. ML13268A343), requesting an extension of the public comment period until November 15, 2013, on these two guidance documents. The NRC has decided to re-open the public comment period on these two ISG documents to allow more time for members of the public to assemble and submit their comments.

DATES: The comment period has been re-opened and now closes on November 15, 2013. The NRC agreed to extend the comment period, but was unable to inform the public because of the furlough. Comments received after this date will be considered, if it is practical to do so, but the Commission is able to ensure consideration only for comments received on or before this date.

ADDRESSES: You may submit comments by any of the following methods (unless this document describes a different method for submitting comments on a specific subject):

• Federal Rulemaking Web site: Go to http://www.regulations.gov and search for Docket ID NRC-2013-0212 for ESP/COL-ISG-026 or NRC-2013-0211 for ESP/COL-ISG-027. Address questions about NRC dockets to Carol Gallagher; telephone: 301-287-3422; email: Carol.Gallagher@nrc.gov. For technical questions, contact the individual(s) listed in the FOR FURTHER INFORMATION CONTACT section of this document.

• Mail comments to: Cindy Bladey, Chief, Rules, Announcements, and Directives Branch (RADB), Office of Administration, Mail Stop: 3WFN-06-44M, U.S. Nuclear Regulatory Commission, Washington, DC 20555-0001.

For additional direction on accessing information and submitting comments, see “Accessing Information and Submitting Comments” in the SUPPLEMENTARY INFORMATION section of this document.

FOR FURTHER INFORMATION CONTACT: Tanya Hood, Office of New Reactors, U.S. Nuclear Regulatory Commission, Washington, DC 20555-0001; telephone: 301-415-1387 or email: Tanya.Hood@nrc.gov.

SUPPLEMENTARY INFORMATION:

I. Accessing Information and Submitting Comments

A. Accessing Information

Please refer to Docket ID NRC-2013-0212 when contacting the NRC about the availability of information regarding ESP/COL-ISG-026 or Docket ID NRC-2013-0211 when contacting the NRC about ESP/COL-ISG-027. You may access publicly-available information related to this action by the following methods:

• Federal Rulemaking Web site: Go to http://www.regulations.gov and search for Docket ID NRC-2013-0212 for ESP/COL-ISG-026 or NRC-2013-0211 for ESP/COL-ISG-027.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced in this notice.

• NRC's PDR: You may examine and purchase copies of public documents at the NRC's PDR, Room O1-F21, One White Flint North, 11555 Rockville Pike, Rockville, Maryland 20852.

B. Submitting Comments

Please include the respective Docket ID in the subject line of your comment submission, in order to ensure that the NRC is able to make your comment submission available to the public in the appropriate docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Dated at Rockville, Maryland, this 5th day of November 2013.
For the Nuclear Regulatory Commission.
Joseph Colaccino,
Chief Policy Branch, Division of Advanced Reactors and Rulemaking, Office of New Reactors.

[FR Doc. 2013-27135 Filed 11-12-13; 8:45 am]

BILLING CODE 7590-01-P